FARM CREDIT ADMINISTRATION

12 CFR Parts 600, 602, 603, and 606

RIN 3052-AD17

FCA Organization; Updates and Technical Corrections

AGENCY: Farm Credit Administration.

ACTION: Final rule.

SUMMARY: The Farm Credit Administration (FCA or Agency) issues a final rule amending its regulations to reflect changes in the Agency's organizational structure and correct the zip code for the field office located in Irving, TX.

DATES: This regulation will become effective no earlier than 30 days after publication in the Federal Register during which either one or both Houses of Congress are in session. We will publish a notice of the effective date in the Federal Register.

FOR FURTHER INFORMATION CONTACT: Mike Wilson, Policy Analyst, Office of Regulatory Policy, Farm Credit Administration, McLean, VA 22102-5090, (703) 883-4124, TTY (703) 883-4434; or Autumn Agans, Attorney-Advisor, Office of General Counsel, Farm Credit Administration, McLean, Virginia 22102-5090, (703) 883-4020, TTY (703) 883-4020.

SUPPLEMENTARY INFORMATION:

I. Objectives

The objective of this final rule is to reflect changes to the FCA's organizational structure and correct the zip code for the field office located in Irving, TX. In addition, references in our regulations to various FCA offices, which have changed, have been revised. We also are re-ordering the list of FCA offices into a more logical progression that is consistent with FCA's organizational chart.

II. Overview

On April 27, 2016, the FCA Board approved an organizational chart that separated the unrelated functions of the Office of Management Services (OMS) into the Office of Agency Services (OAS) and the Office of the Chief Financial Officer (OCFO). This change will allow the Directors of the new offices to better focus on the core functions and duties of the offices.

III. Organizational Structure

The Freedom of Information Act, 5 U.S.C. 552, requires, in part, that each Federal agency publish in the Federal Register, for the guidance of the public, a description of its organization structure. Accordingly, we revise our regulations by:

(1) In § 600.2, changing the zip code for the Irving, TX field office from 75602-3957 to 75062-3906;

(2) In § 600.4,

(a) Including the Office of the Chief Financial Officer in FCA's organization structure;

(b) Including the Office of Agency Services in FCA's organizational structure;

(c) Removing the Office of Management Services from the FCA's organizational structure; and

(d) Re-ordering the list of FCA offices into a more logical progression that is consistent with FCA's organizational chart.

(3) In §§ 602.8, 603.340, and 606.670, changing the Office of Management Services to the Office of Agency Services, and corresponding office name abbreviations, where appropriate;

(4) In § 602.25, removing “Regulation and Policy Division” and changing the Office of Policy and Analysis to the Office of Regulatory Policy.

IV. Certain Findings

We have determined that the amendments involve Agency management and personnel and other minor technical changes. Therefore, the amendments do not constitute a rulemaking under the Administrative Procedure Act (APA), 5 U.S.C. 551, 553(a)(2). Under the APA, the public may participate in the promulgation of rules that have a substantial impact on the public. The amendments to our regulations relate to Agency management and personnel and a minor technical change only and have no direct impact on the public and, therefore, do not require public participation.

Even if these amendments were a rulemaking under 5 U.S.C. 551, 553(a)(2) of the APA, we have determined that notice and public comment are unnecessary and contrary to the public interest. Under 5 U.S.C. 553(b)(A) and (B) of the APA, an agency may publish regulations in final form when they involve matters of agency organization or where the agency for good cause finds that notice and public comment are impracticable, unnecessary, or contrary to the public interest. As discussed above, these amendments result from recent office reorganizations. Because the amendments will provide accurate and current information on the organization of the FCA and update the citation to the Act, it would be contrary to the public interest to delay amending the regulations.

V. Regulatory Flexibility Act

Pursuant to section 605(b) of the Regulatory Flexibility Act (5 U.S.C. 601 et seq.), FCA hereby certifies that the final rule will not have a significant economic impact on a substantial number of small entities. Each of the banks in the Farm Credit System (System), considered together with its affiliated associations, has assets and annual income in excess of the amounts that would qualify them as small entities. Therefore, System institutions are not “small entities” as defined in the Regulatory Flexibility Act.

List of Subjects

12 CFR Part 600

Organization and functions (Government agencies).

12 CFR Part 602

Freedom of information.

12 CFR Part 603

Privacy.

12 CFR Part 606

Administrative practice and procedure, Civil rights, Equal employment opportunity, Federal buildings and facilities, Individuals with disabilities.

For the reasons stated in the preamble, parts 600, 602, 603, and 606 of chapter VI, title 12 of the Code of Federal Regulations are amended as follows:

PART 600—ORGANIZATION AND FUNCTIONS

1. The authority citation for part 600 continues to read as follows:

Authority: Secs. 5.7, 5.8, 5.9, 5.10, 5.11, 5.17, 8.11 of the Farm Credit Act (12 U.S.C. 2241, 2242, 2243, 2244, 2245, 2252, 2279aa-11).

§ 600.2 [Amended]

2. Amend § 600.2 in paragraph (b) by removing the zip code “75602-3957” and adding in its place the zip code “75062-3906.”

3. Revise § 600.4 to read as follows:

§ 600.4 Organization of the Farm Credit Administration.

(a) Offices and functions. The primary offices of the FCA are:

(1) Office of Inspector General. The Office of Inspector General conducts independent audits, inspections, and investigations of Agency programs and operations and reviews proposed legislation and regulations.

(2) Secretary to the Board. The Secretary to the Board serves as the parliamentarian for the Board and keeps permanent and complete records and minutes of the acts and proceedings of the Board.

(3) Equal Employment and Inclusion Director. The Office of Equal Employment and Inclusion manages and directs the Agency-wide Diversity, Inclusion, and Equal Employment Opportunity Program for FCA and FCSIC. The office serves as the chief liaison with the Equal Employment Opportunity Commission and the Office of Personnel Management on all EEO, diversity, and inclusion issues. The office provides counsel and leadership to Agency management to carry out its continuing policy and program of nondiscrimination, affirmative action, and diversity.

(4) Designated Agency Ethics Official. The Designated Agency Ethics Official is designated by the FCA Chairman to administer the provisions of title I of the Ethics in Government Act of 1978, as amended, to coordinate and manage FCA's ethics program and to provide liaison to the Office of Government Ethics with regard to all aspects of FCA's ethics program.

(5) Office of Congressional and Public Affairs. The Office of Congressional and Public Affairs performs Congressional liaison duties and coordinates and disseminates Agency communications.

(6) Office of Secondary Market Oversight. The Office of Secondary Market Oversight regulates and examines the Federal Agricultural Mortgage Corporation for safety and soundness and compliance with law and regulations.

(7) Office of the Chief Operating Officer. The Chief Operating Officer has broad responsibility for planning, directing, and controlling the operations of the Offices of Management Services, Examination, Regulatory Policy, and General Counsel in accordance with the operating philosophy and policies of the FCA Board.

(8) Office of Agency Services. The Office of Agency Services manages human capital and administrative services for the Agency. This includes providing the following services to the Agency: Staffing and placement, job evaluation, compensation and benefits, payroll administration, performance management and awards, employee relations, employee training and development, contracting, acquisitions, records and property management, supply services, agency purchase cards, design, publication, and mail service.

(9) Office of the Chief Financial Officer. The Office of the Chief Financial Officer manages and delivers timely, accurate, and reliable financial services to the Agency. The office establishes financial policies and procedures and oversees the formulation and execution of the Agency's budget. The office reports periodically on the status of the Agency's financial position, results of operations, and budgetary resources. It also oversees the Agency's travel management, internal controls, and personnel security programs.

(10) Office of Regulatory Policy. The Office of Regulatory Policy develops policies and regulations for the FCA Board's consideration; evaluates regulatory and statutory prior approvals; manages the Agency's chartering activities; and analyzes policy and strategic risks to the System.

(11) Office of Examination. The Office of Examination evaluates the safety and soundness of FCS institutions and their compliance with law and regulations and manages FCA's enforcement and supervision functions.

(12) Office of Information Technology. The Office of Information Technology manages and delivers the Agency's information technology, data analysis infrastructure, and the security supporting Agency technology resources.

(13) Office of General Counsel. The Office of General Counsel provides legal advice and services to the FCA Chairman, the FCA Board, and Agency staff.

(b) Additional information. You may obtain more information on the FCA's organization by visiting our Web site at http://www.fca.gov. You may also contact the Office of Congressional and Public Affairs:

(1) In writing at FCA, 1501 Farm Credit Drive, McLean, Virginia 22102-5090;

(2) By email at info-line@fca.gov; or

(3) By telephone at (703) 883-4056.

PART 602—RELEASING INFORMATION

4. The authority citation for part 602 continues to read as follows:

Authority: Secs. 5.9, 5.17, 5.59 of the Farm Credit Act (12 U.S.C. 2243, 2252, 2277a-8); 5 U.S.C. 301, 552; 12 U.S.C. 1821(t); 52 FR 10012; E.O. 12600; 52 FR 23781, 3 CFR 1987, p. 235.

§ 602.8 [Amended]

5. Amend § 602.8 as follows:

a. In the second sentence of paragraph (a), by removing the words “Office of Management Services (OMS)” and adding in their place the words “Office of Agency Services (OAS).”

b. In paragraphs (b) and (c), by removing the abbreviation “OMS” and adding in its place the abbreviation “OAS” each place it appears.

§ 602.25 [Amended]

6. Amend § 602.25 by removing the words “Regulation and Policy Division, Office of Policy and Analysis” and adding in their place the words “Office of Regulatory Policy.”

PART 603—PRIVACY ACT REGULATIONS

7. The authority citation for part 603 continues to read as follows:

Authority: Secs. 5.9, 5.17 of the Farm Credit Act (12 U.S.C. 2243, 2252); 5 U.S.C. app. 3, 5 U.S.C. 552a(j)(2) and (k)(2).

§ 603.340 [Amended]

8. Amend § 603.340 in paragraphs (a) and (b) by removing the words “Office of Management Services” and adding in their place the words “Office of Agency Services” each place they appear.

PART 606—ENFORCEMENT OF NONDISCRIMINATION ON THE BASIS OF HANDICAP IN PROGRAMS OR ACTIVITIES CONDUCTED BY THE FARM CREDIT ADMINISTRATION

9. The authority citation for part 606 continues to read as follows:

Authority: 29 U.S.C. 794.

§ 606.670 [Amended]

10. Amend § 606.670 in paragraph (c) by removing the words “Office of Management Services” and adding in their place the words “Office of Agency Services.”

Dated: July 13, 2016.
Dale L. Aultman,
Secretary, Farm Credit Administration Board.

[FR Doc. 2016-16962 Filed 7-21-16; 8:45 am]

BILLING CODE 6705-01-P